DEPARTMENT OF THE INTERIOR

Bureau of Reclamation

Environmental Water Account

AGENCY: Bureau of Reclamation, Interior.

ACTION: Notice of Availability and Notice of Public Hearings for the Draft Supplemental Environmental Impact Statement/Environmental Impact Report to the Final Environmental Impact Statement/ Environmental Impact Report (Draft Supplemental EIS/EIR).

SUMMARY: The Bureau of Reclamation (Reclamation) is the National Environmental Policy Act Federal lead agency, and the U.S. Fish and Wildlife Service (Service) and National Marine Fisheries Service (NMFS) are the Federal Cooperating Agencies. The California Department of Water Resources (DWR) is the California Environmental Quality Act State lead agency, and the California Department of Fish and Game (DFG) is the State Responsible and Trustee Agency. Together, these five agencies have made the Draft Supplemental EIS/EIR available for public review and comment.

The Environmental Water Account (EWA) Program provides for fish protection and recovery in the San Francisco Bay/Sacramento-San Joaquin Delta while at the same time improving water supply reliability for Central Valley Project (CVP) and State Water Project (SWP) water users. The Draft Supplemental EIS/EIR addresses changes to the regulatory and physical environment that have occurred since completion of the Final EIS/EIR in January 2004 (FR Volume 69: 3599) and the Records of Decision in March 2004 and September 2004.

DATES: Public hearings will be held to discuss the purpose and content of the Draft Supplemental EIS/EIR and to provide the public an opportunity to comment on this draft environmental document. Written comments will also be accepted at the public hearings. The public hearings will be held as follows:

• Wednesday, November 14, 2007, 10 a.m. to 12 noon, Sacramento, CA.

• Thursday, November 15, 2007, 5 p.m. to 7 p.m., Los Banos, CA.

Written comments on the Draft Supplemental EIS/EIR must be submitted on or before December 10, 2007.

ADDRESSES: The public hearings will be held at the following locations:

• In Sacramento at the Federal Building, 2800 Cottage Way, Cafeteria Conference Rooms C-1001 and C-1002.

• In Los Banos at the Miller & Lux Building, Activity Room, 830 6th Street.

Written comments on the Draft Supplemental EIS/EIR should be addressed to Ms. Sammie Cervantes, Bureau of Reclamation, 2800 Cottage Way, Sacramento, CA 95825.

Copies of the Draft Supplemental EIS/EIR may be requested from Ms. Sammie Cervantes, by writing to Bureau of Reclamation, 2800 Cottage Way, Sacramento, CA 95825; by calling 916-978-5189 (TDD 916-978-5608); or by e-mailing scervantes@mp.usbr.gov. The Draft Supplemental EIS/EIR is also accessible from the following Web sites: http://www.mp.usbr.gov or http://www.dwr.water.ca.gov. See SUPPLEMENTARY INFORMATION section for locations where copies of the Draft Supplemental EIS/EIR are available for public review.

FOR FURTHER INFORMATION CONTACT: Ms. Sammie Cervantes, Bureau of Reclamation, at 916-978-5189 (TDD 916-978-5608) or scervantes@mp.usbr.gov.

SUPPLEMENTARY INFORMATION: The CVP and SWP facilities that pump water from the Delta can entrain and kill fish, some of which are Federally and State protected species. Reductions in CVP and SWP pumping to protect these fish species can reduce water supply reliability. The EWA Program includes Federal and State agencies making environmentally-beneficial changes in the operation of the CVP and SWP for Delta-dependent native fish species, and acquiring and managing water assets to pay back the water foregone by changes to the operation of the CVP and SWP. The Service, Reclamation, DWR, NMFS, and DFG collectively manage the EWA Program. The Service, NMFS, and DFG are responsible for recommending actions that protect and benefit Delta-dependent fish populations. Reclamation and DWR are responsible for acquiring water assets from willing sellers and storing, conveying, and delivering the assets to the CVP and SWP at appropriate times and locations.

The Draft Supplemental EIS/EIR documents the direct, indirect, and cumulative effects to the physical, natural, and socioeconomic environment that may result from the purchase, storage, and conveyance of EWA assets, and the actions taken to benefit Delta-dependent fish populations. The Draft Supplemental EIS/EIR is focused on an analysis of impacts to fisheries in the Delta because there have been multiple changes in the regulatory and physical environment since the Record of Decision was signed in September 2004.

Copies of the Draft Supplemental EIS/EIR are available for public review at the following locations:

• Bureau of Reclamation, Denver Office Library, Building 67, Room 167, Denver Federal Center, 6th and Kipling, Denver, Colorado 80225, 303-445-2072.

• Bureau of Reclamation, Mid-Pacific Region, Regional Library, 2800 Cottage Way, Sacramento, California 95825.

• California Bay-Delta Authority, 650 Capitol Mall, 5th Floor, Sacramento, California 95812.

• Department of Water Resources, Division of Environmental Services, 3251 S Street, Sacramento, California 95816.

• Natural Resources Library, U.S. Department of the Interior, 1849 C Street NW., Main Interior Building, Washington, DC 20240-0001.

If special assistance is required at the public hearings, please contact Ms. Sammie Cervantes at 916-978-5189, TDD 916-978-5608, or by e-mailing scervantes@mp.usbr.gov. Please notify Ms. Cervantes as far in advance as possible to enable Reclamation to secure the needed services. If a request cannot be honored, the requestor will be notified.

Before including your name, address, phone number, e-mail address, or other personal identifying information in your comment, you should be aware that your entire comment—including your personal identifying information—may be made publicly available at any time. While you can ask us in your comment to withhold your personal identifying information from public review, we cannot guarantee that we will be able to do so.

Dated: September 20, 2007.
John F. Davis,
Acting Regional Director, Mid-Pacific Region.

[FR Doc. 07-5188 Filed 10-19-07; 8:45 am]

BILLING CODE 4310-MN-P